DEPARTMENT OF ENERGY

Federal Energy Regulatory Commission

[Docket No. CP02-32-000]

Texas Eastern Transmission, LP; Notice of Intent To Prepare an Environmental Assessment for the Proposed Time Project, Request for Comments on Environmental Issues, and Notice of Site Visits

February 20, 2002.

The staff of the Federal Energy Regulatory Commission (FERC or Commission) will prepare an environmental assessment (EA) that will discuss the environmental impacts of the Time Project involving construction and operation of facilities by Texas Eastern Transmission, LP (Texas Eastern) in several counties in Pennsylvania, New Jersey, and New York.¹ These facilities would consist of about 15.8 miles of 36-inch diameter pipeline; 27,200 horsepower (hp) of additional compression, and uprate an existing meter and regulation station. This EA will be used by the Commission in its decision-making process to determine whether the project is in the public convenience and necessity.

¹ Texas Eastern's application was filed with the Commission under Section 7 of the Natural Gas Act and Part 157 of the Commission's regulations.

If you are a landowner receiving this notice, you may be or have been contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Texas Eastern provided to landowners. This fact sheet addresses a number of typically asked questions, including the use of eminent domain and how to participate in the Commission's proceedings. It is available for viewing on the FERC Internet website (www.ferc.gov).

This notice is being sent to landowners of property affected by Texas Eastern's proposed facilities; Federal, state, and local agencies; elected officials; Indian tribes that might attach religious and cultural significance to historic properties in the area of potential effects; environmental and public interest groups; and local libraries and newspapers. State and local government representatives are encouraged to notify their constituents of this proposed action and encourage them to comment on their areas of concern.

Summary of the Proposed Project

Texas Eastern wants to expand the capacity of its pipeline in Pennsylvania to transport an additional 100,000 dekatherms (Dth/day) per day of natural gas to New Jersey Natural Gas. Transco seeks authority to construct, operate and maintain the following facilities:

—four new segments of 36-inch-diameter pipeline loop in Perry County (Perulack), Lebanon County (Grantville), Berks County (Bernville), and Bucks County (Bechtelsville), Pennsylvania, totaling 15.8 miles; (The Perulack and Bechtelsville discharges were modified in position of a section of the pipeline, which did not change the length of each line.)²

² On February 19, 2002, Texas Eastern made a supplemental filing revising the Perulack Discharge by moving the beginning point approximately 15,000 feet east or downstream of the currently filed starting point; and the Bechtelsville Discharge by moving the beginning point for the loop approximately 5,800 feet east or downstream of the currently filed starting point.

—8,600 horsepower (hp) uprates, from 13,400 to 22,000 hp, for each of two existing compressor stations, the Entriken in Huntingdon County, Pennsylvania, and the Armagh in Indiana County, Pennsylvania, totaling 17,200 hp;

—one new 10,000 hp electric driven compressor unit at the existing Lambertville Compressor Station in Hunterdon County, New Jersey; and

—Upgrading the existing meter and regulation station M&R No. 70058 in Richmond County, New York.

The general location of the project facilities is shown in appendix 1.³

³ The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Land Requirements for Construction

Construction of the proposed pipeline additions would affect about 271 acres of land. Following construction, about 50 acres would be maintained as new pipeline right of way. The remaining 221 acres of land would be restored and allowed to revert to its former use.

Construction of new facilities at the three existing compressor stations would require a total of about 5 acres of land area. However, about 2 acres would be required for operation of these facilities.

The EA Process

The National Environmental Policy Act (NEPA) requires the Commission to take into account the environmental impacts that could result from an action whenever it considers the issuance of a Certificate of Public Convenience and Necessity. NEPA also requires us to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section of this notice.

Currently Identified Environmental Issues

We have already identified several issues that we think deserve attention based on a preliminary review of the proposed facilities and the environmental information provided by Texas Eastern. This preliminary list of issues may be changed based on your comments and our analysis.

Geology and Soils

—Erosion control and right-of-way restoration.

—Potential for mixing of topsoil and subsoil.

Water Resources and Wetlands

—A total of 16 perennial streams would be crossed by the pipelines (14) or access roads (2).

—Ten wetlands, totaling 8 acres, would be crossed by the pipeline during construction. About 2 acres would be affected during operation.

Biological Resources

—Impacts on about 155 acres of upland forest and scrub-shrub habitat.

Cultural Resources

—Impacts on prehistoric and historic sites.

—Native American concerns.

Land Use

—Impacts on about 5 acres of residential areas.

—Impacts on 11 residents within 50 feet of the proposed construction area.

—Visual effects of the aboveground facilities on surrounding areas.

Air and Noise Quality

—Impacts on local air and noise environment as a result of operation of the new compressor upgrades.

Alternatives

—Evaluate possible alternatives to the proposed project or portions of the project, and make recommendations on how to lessen or avoid impacts on the various resource areas.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

—-Send two copies of your letter to: Magalie R. Salas, Secretary, Federal Energy Regulatory Commission 888 First St., N.E., Room 1A, Washington, DC 20426.

—Label one copy of the comments for the attention of Gas/Hydro Group.

—Reference Docket No. CP02-032-000.

—Mail your comments so that they will be received in Washington, DC on or before March 22, 2002.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's web site at http://www.ferc.gov under the “e-Filing” link and the link to the User's Guide. Before you can file comments you will need to create an account which can be created by clicking on “Login to File” and then “New User Account.”

All commentors will be retained on our mailing list. If you do not want to send comments at this time but still want to stay informed and receive copies of the EA, if it is released for further public comment, you must return the attached Information Request (appendix 3). If you do not send comments or return the Information Request, you will be taken off the mailing list.”

Site Visit

We will also be conducting site visits to the project area. Anyone interested in participating in the site visit may contact the Commission's Office of External Affairs identified at the end of this notice for more details.

Schedule of Site Visits

The Commission staff will be conducting an environmental site visit of the following proposed facilities for the Time project on Tuesday and Wednesday, March 5 and 6, 2002: Lambertville Compressor Station, NJ; Bechtelsville Discharge, PA; Bernville Discharge, PA; Perulack Discharge, PA; and Grantville Discharge, PA. The following list specifies the time and location to meet staff at each project facility.

Tuesday, March 5, 2002:

—Lambertville Compressor Station: 7:45 am, Lambertville Construction Wareyard, Highway 179 and Mill Road, Lambertville, NJ.

—Bechtelsville Discharge: 9 am, Bethel Baptist Church parking lot, 754 East Rockhill Road, Sellersville, PA.

—Bernville Discharge: 2 pm, Bernville Project Wareyard, Jake's Flea Market, 1372 Route 100, Barto, PA.

Wednesday, March 6, 2002:

—Perulack Discharge: 9:30 am, Blain Family Restaurant, Main Street, Blain, PA.

—Grantville Discharge: 12:00 pm, Heisey's Diner, 1740 Route 72 North, Lebanon, PA

Anyone interested in participating in the site visit may meet at the appropriate, above-specified time and location, and may contact the Commission's Office of External Affairs at (202) 208-1088 with any questions, or to obtain updates on the above schedule should changes occur while staff is en route to the meeting locations. Participants must provide their own transportation.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 (direct line) or you can call the FERC operator at 1-800-847-8885 and ask for External Affairs. Information is also on the FERC website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Magalie R. Salas,
Secretary.

[FR Doc. 02-4565 Filed 2-27-02; 8:45 am]

BILLING CODE 6717-01-P